NATIONAL ARCHIVES AND RECORDS ADMINISTRATION

Draft NARA Guidance for Implementing Section 207(e) of the E-Government Act of 2002; Request for Comment; Correction

AGENCY: National Archives and Records Administration (NARA).

ACTION: Notice of availability of document; request for comment; correction.

SUMMARY: NARA published a notice in the November 14, 2005, Federal Register [70 FR 69165] seeking public comment on the draft NARA Guidance for Implementing Section 207(e) of the E-Government Act of 2002. The DATES paragraph was incorrect. Comments are due no later than November 30, 2005.

DATES: Comments must be received by November 30, 2005.

FOR FURTHER INFORMATION CONTACT: Nancy Allard at 301-837-1477 or via e-mail at. nancy.allard@nara.gov.

SUPPLEMENTARY INFORMATION: In FR Doc. 05-22527 appearing in the third column on page 69165, the DATES paragraph is corrected to read:

Dates: Comments must be received by November 30, 2005.

Dated: November 15, 2005.
Nancy Y. Allard,
Federal Register Liaison.

[FR Doc. 05-22974 Filed 11-16-05; 11:05 am]

BILLING CODE 7515-01-P